FEDERAL COMMUNICATIONS COMMISSION

Public Information Collections Approved by Office of Management and Budget

January 24, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION: OMB Control No.: 3060-0147.

OMB Approval Date: January 19, 2006.

Expiration Date: January 31, 2009.

Title: Section 64.804—Extension of Unsecured Credit for Interstate and Foreign Communication Services to Candidates for Federal Office.

Form No.: N/A.

Estimated Annual Burden: 13 responses; 104 total annual burden hours; 8 hours per respondent.

Needs and Uses: Communications common carriers with operating revenues exceeding $1 million who extend unsecured credit to a candidate or person on behalf of such candidates for Federal office must file with the FCC a report including due and outstanding balances. The information is used tor monitoring purposes.

OMB Control No.: 3060-0704.

OMB Approval Date: January 13, 2006.

Expiration Date: January 31, 2009.

Title: Policy and Rules Concerning the Interstate, Interexchange Marketplace; Implementation of section 254(g) of the Communications Act of 1934, as amended, CC Docket No. 96-61.

Form No.: N/A.

Estimated Annual Burden: 519 responses; 84,337 total annual burden hours; approximately .5-120 hours average per respondent.

Needs and Uses: These collections of information are necessary to provide consumers ready access to information concerning the rates, terms, and conditions governing the provision of interstate, domestic and interexchange services offered by nondominant interexchange carriers (IXCs) in a detariffed and increasingly competitive environment. In the Second Order on Reconsideration issued in CC Docket No. 96-61, (March 1999), the Commission reinstated the public disclosure requirement and also required that nondominant interexchange carriers that have Internet Web sites to pass this information on-line in a timely and easily accessible manner. These carriers are also required to file annual certifications pursuant to section 254(g); maintain prices and service information; and are forborne from filing certain tariffs. The tariff cancellation requirement has been completed so the burden for that part of this collection has been removed.

OMB Control No.: 3060-1009.

OMB Approval Date: January 19, 2006.

Expiration Date: January 31, 2009.

Title: Telecommunications Reporting Worksheet, CC Docket No. 96-45.

Form No.: FCC 499 M.

Estimated Annual Burden: 1 response; 1 total annual burden hour; 1 hour per respondent.

Needs and Uses: In December 2002, the Commission issued a Second Further Notice of Proposed Rulemaking seeking comment on specific aspects of three connection-based proposals to further refine the record in its proceeding to revisit its universal service contribution methodology. First, the Commission sought comment on a contribution methodology that would impose a minimum contribution obligation on all interstate telecommunications carriers, and a flat charge for each end-user connection, depending on the nature or capacity of the connection. Next, the Commission sought comment on a proposal to assess all connections based purely on capacity. Finally, the Commission sought comment on a proposal to assess providers of switched connections based on their working telephone numbers. If adopted, the proposals may entail altering the current reporting requirements to which interstate telecommunications carriers are subject under Part 54 of the Commission's rules.

OMB Control No.: 3060-1085.

OMB Approval date: January 13, 2006.

Expiration Date: January 31, 2009.

Title: Collection of Location Information, Provision of Notice and Reporting on Interconnected Voice Over Internet Protocol (VoIP) E911 Compliance.

Form No.: N/A.

Estimated Annual Burden: 14,238,254 responses; 435,894 total annual burden hours; approximately .09-16 hours average per respondent.

Needs and Uses: On June 3, 2005, the Commission released a First Report and Order in WC Docket No. 04-36 and a Notice of Proposed Rulemaking in WC Docket No. 05-196, FCC 05-116 (Order) in which the Commission established rules requiring providers of interconnected VoIP—meaning VoIP service that allows a user generally to receive calls originating from and to terminate calls to the public switched telephone network (PSTN)—to provide enhanced 911 (E911) capabilities to their customers as a standard feature of service.

The Order requires collection of information in six requirements:

A. Location Registration. The Order requires providers of interconnected VoIP services to obtain location information from their customers for use in the routing of 911 calls and the provision of location information to emergency answering points.

B. Provision of Automatic Location Information (ALI). In order to meet the obligations set forth in the Order, interconnected VoIP service providers will place the location information for their customers into, or make that information available through, specialized databases maintained by local exchange carriers (and, in at least one case, a state government) across the country.

C. Customer Notification. In order to ensure that consumers of interconnected VoIP services are aware of their interconnected VoIP service's actual E911 capabilities, the Order requires that all providers of interconnected VoIP service specifically advise every subscriber, both new and existing, prominently and in plain language, the circumstances under which E911 service may not be available through the interconnected VoIP service or may be in some way limited by comparison to traditional E911 service.

D. Record of Customer Notification. The Order requires VoIP providers to obtain and keep a record of affirmative acknowledgement by every subscriber, both new and existing, of having received and understood this advisory.

E. User Notification. In addition, in order to ensure to the extent possible that the advisory is available to all potential users of an interconnected VoIP service, interconnected VoIP service providers must distribute to all subscribers, both new and existing, warning stickers or other appropriate labels warning subscribers if E911 service may be limited or not available and instructing the subscriber to place them on and/or near the customer premises equipment used in conjunction with the interconnected VoIP service.

F. Compliance Letter. The Order requires all interconnected VoIP providers to submit a letter to the Commission detailing their compliance with the rules set forth in the Order no later than 120 days after the effective date of the Order. This letter will enable the Commission to ensure that interconnected VoIP providers have achieved E911 compliance by the established deadline.

Federal Communications Commission.
Marlene H. Dortch,
Secretary.

[FR Doc. 06-891 Filed 1-31-06; 8:45 am]

BILLING CODE 6712-01-P